INTERNATIONAL TRADE COMMISSION

[Investigation No. 731-1330 (Review)]

Dioctyl Terephthalate From South Korea; Cancellation of Hearing for Full Five-Year Review

AGENCY: International Trade Commission.

ACTION: Notice.

DATES: April 25, 2023.

FOR FURTHER INFORMATION CONTACT: Christopher Robinson ((202) 205-2602), Office of Industry and Competitive Analysis, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this review may be viewed on the Commission's electronic docket (EDIS) at http://edis.usitc.gov.

SUPPLEMENTARY INFORMATION: On December 16, 2022, the Commission established a schedule for the conduct of the full five-year review (87 FR 78708, December 22, 2022). On April 18, 2023, counsel for Eastman Chemical Company filed a request that the Commission cancel the scheduled hearing for this review given the lack of respondent interested party participation. On April 21, 2023, counsel for Eastman Chemical Company filed a request to appear at the hearing, contingent on the Commission's response to the request to cancel the hearing. Counsel indicated a willingness to respond to any Commission questions. No other party submitted a request to appear at the hearing. Consequently, the public hearing in connection with this review, scheduled to begin at 9:30 a.m. on Thursday, April 27, 2023, is cancelled. Parties to this review should respond to any written questions posed by the Commission in their posthearing briefs, which are due to be filed on May 5, 2023.

For further information concerning this review see the Commission's notice cited above and the Commission's Rules of Practice and Procedure, part 201, subparts A and B (19 CFR part 201), and part 207, subparts A, D, E, and F (19 CFR part 207).

Authority: This review is being conducted under authority of title VII of the Tariff Act of 1930; this notice is published pursuant to section 207.62 of the Commission's rules.

By order of the Commission.
Issued: April 26, 2023.
Lisa Barton,
Secretary to the Commission.

[FR Doc. 2023-09137 Filed 4-28-23; 8:45 am]

BILLING CODE 7020-02-P